DEPARTMENT OF TRANSPORTATION

[Docket No. DOT-OST-2023-0020]

Request for Information on US DOT Equitable Transportation Community Explorer (ETCE) Tool and Index Methodology

AGENCY: Office of the Secretary (OST), Department of Transportation (DOT).

ACTION: Request for information.

SUMMARY: The Department of Transportation is issuing this request for information (RFI) to solicit feedback on DOT's updated Transportation Disadvantaged Census Tracts Tool (now named US DOT Equitable Transportation Community Explorer) and Index methodology that supports the Administration's Justice40 initiative.

DATES: Issued February 17, 2023; responses to this RFI should be received by March 18, 2023.

ADDRESSES: Comments should refer to the docket number above and submitted by one of the following methods:

• Federal Rulemaking Portal: http://www.regulations.gov. Follow the online instructions for submitting comments.

• Mail: Docket Management Facility, U.S. Department of Transportation, 1200 New Jersey Avenue SE, West Building Ground Floor, Room W12-140, Washington, DC 20590-0001.

• Hand Delivery: 1200 New Jersey Avenue SE, West Building Ground Floor, Room W12-140, Washington, DC, between 9 a.m. and 5 p.m. ET, Monday through Friday, except Federal Holidays.

Instructions: For detailed instructions on submitting comments, see the Public Participation heading of the SUPPLEMENTARY INFORMATION section of this document. Note that all comments received will be posted without change to http://www.regulations.gov, including any personal information provided.

Privacy Act: Except as provided below, all comments received into the docket will be made public in their entirety. The comments will be searchable by the name of the individual submitting the comment (or signing the comment, if submitted on behalf of an association, business, labor union, etc.). You should not include information in your comment that you do not want to be made public. For information on DOT's compliance with the Privacy Act, please visit https://www.transportation.gov/privacy.

Docket: For access to the docket to read background documents or comments received, go to http://www.regulations.gov or the street address listed above. Follow the online instructions for accessing the dockets.

FOR FURTHER INFORMATION CONTACT: For further information, please email Justice40@dot.gov or contact Kristin Wood at 774-293-2726. Office hours are from 8 a.m. to 5 p.m. EDT, Monday through Friday, except for Federal holidays.

SUPPLEMENTARY INFORMATION:

I. Background

Executive Order (E.O.) 14008, “Tackling the Climate Crisis at Home and Abroad”, and the subsequent “Interim Implementation Guidance for the Justice40 Initiative” (M-21-28) charged each federal agency with creating an interim “disadvantaged communities” methodology to help each agency achieve the goal that 40 percent of the overall benefits of investments flow to disadvantaged communities. Recently, the Office of Management and Budget and Council on Environmental Quality (CEQ) issued M-23-09, an addendum to the “Interim Implementation Guidance for the Justice40 Initiative,” (M-21-28) providing guidance on the use of the Climate and Economic Justice Screening Tool (CEJST).

In support of the Justice40 Initiative, the Department of Transportation (Department) developed the interim Transportation Disadvantaged Census Tracts (Historically Disadvantaged Communities) tool. The Department is proposing to update and rebrand its current tool as the U.S. DOT Equitable Transportation Community Explorer (ETCE). The tool will serve an interactive web application that explores the cumulative burden disadvantage communities experience resulting from underinvestment in transportation in the following five component areas: Transportation Insecurity, Climate and Disaster Risk Burden, Environmental Burden, Health Vulnerability, and Social Vulnerability. ETCE uses newly available 2020 Census Tracts and data, adds additional indicators reflective of disadvantage related to lack of transportation investment and updates the methodology used to calculate disadvantage. In ETCE, individual variables and datasets are combined to create a score for each component (Transportation Insecurity, Climate and Disaster Risk Burden, Environmental Burden, Health Vulnerability, and Social Vulnerability). The scores from each component are percentile ranked and combined to create an overall index score. Under this methodology, a census tract will be considered disadvantaged if the overall index score places it in the 65th percentile (or higher) of all US census tracts. The 65th percentile cutoff was chosen to be consistent with other tools that measure disadvantage including CEJST.

Applicants to DOT's discretionary programs have the option of using CEJST and/or ETCE when developing funding applications. State DOT's and Metropolitan Planning Organizations can use ETCE in developing their Statewide Transportation Improvement Programs (STIPs)/Transportation Improvement Programs (TIPs). DOT, as appropriate, will use ETCE as a consideration in making funding decisions and setting policy. The US DOT Equitable Transportation Community Explorer mapping tool, index methodology, and datasets are available at https://cms.dot.gov/priorities/updated-justice40-tool-and-index-rfi.

II. Key Questions for Input

Through this request for information, DOT seeks input, information, and recommendations on the US DOT Equitable Transportation Community Explorer from a broad array of stakeholders in the public sector, including state, Tribal, and local governments, and territorial areas, and in the private sector, including advocacy, not-for-profit, academic, and philanthropic organizations, as well as from any other interested parties. DOT will use responses to this RFI to consider potential updates to the US DOT Equitable Transportation Community Explorer. After DOT has updated the tool with any modifications that are deemed necessary, the tool will supersede the current Transportation Disadvantaged Census Tracts (Historically Disadvantaged Communities) tool. Respondents to this RFI do not need to address every question, but DOT welcomes input in the following areas:

1. Methodology: Please refer to DOT's Justice40 website for more information regarding the tool's methodology (“ETCE Technical Documentation” available at https://cms.dot.gov/priorities/updated-justice40-tool-and-index-rfi.). Please provide comments and specific recommendations for improving the methodology used to identify disadvantaged communities that support the Justice40 Initiative.

2. Datasets: Data in this version of the tool provides measures in the areas of Transportation Insecurity, Climate and Hazard Risk, Environmental Burden, Health Vulnerability, and Social Vulnerability (available at https://cms.dot.gov/priorities/updated-justice40-tool-and-index-rfi).

i. What recommendations for additional datasets would enhance and improve upon the set of indicators currently used?

ii. Are there amenities DOT should be considering travel time and access to other than jobs?

In your comments, please include why and how the data recommendations would improve upon the current set of data and/or indicators used in the tool.

A. In your response, please include the following:

i. Full information regarding data sources (including URL, government agency, and/or organization);

ii. Intended measure—what does the dataset and/or indicator measure (for example, pollution exposure or emissions, health conditions, transportation access, etc.)?

B. Scope—does the recommended data and/or indicator include data from all 50 states and territories? If not, please provide comments as to how to address the issue.

C. A summary of the quality (i.e., completeness, accuracy, consistency, and reliability) of the data for use in the tool; and

D. Geographic resolution of the data (i.e., census block, census tract, zip code, county, etc.).

E. Is this data set publicly available?

3. Map Usability and Accessibility: The US DOT Equitable Transportation Community Explorer map (available at https://cms.dot.gov/priorities/updated-justice40-tool-and-index-rfi) provides an online geospatial platform that gives the user the capability to identify the communities identified as disadvantaged. DOT is soliciting information regarding usability and accessibility of the geospatial platform as follows:

i. What modifications can improve the usability, accessibility, or design of the mapping functions that display the data and results?

ii. Are there specific features or functions that will enhance the usability of the interactive map by community members and organizations, government staff, and other stakeholders?

iii. How do stakeholders search for a project—ex. zip code, address, community name, census tract number etc?

iv. Does the tool's name reflect its purpose?

4. Additional Feedback: DOT seeks any additional feedback on the updated Disadvantaged Communities Tool.

Please note: This version of the Equitable Transportation Community Explorer map has been developed for illustrative purposes to demonstrate the proposed index methodology. It is subject to change following the public comment period.

III. Public Participation

How do I prepare and submit comments?

To ensure that your comments are filed correctly, please include the docket number provided in (DOT-OST-2023-0020) in your comments. Please submit one copy (two copies if submitting by mail or hand delivery) of your comments, including any attachments, to the docket following the instructions given above under ADDRESSES. Please note, if you are submitting comments electronically as a PDF (Adobe) file, we ask that the documents submitted be scanned using an Optical Character Recognition (OCR) process, thus allowing the Agency to search and copy certain portions of your submissions.

How do I submit confidential business information?

Any submissions containing Confidential Information must be delivered to DOT in the following manner:

• Submitted in a sealed envelope marked “confidential treatment requested”;

• Document(s) or information that the submitter would like withheld from the public docket should be marked “PROPIN” for “proprietary information”;

• Accompanied by an index listing the document(s) or information that the submitter would like the Departments to withhold. The index should include information such as numbers used to identify the relevant document(s) or information, document title and description, and relevant page numbers and/or section numbers within a document; and

• Submitted with a statement explaining the submitter's grounds for objecting to disclosing the information to the public.

DOT will treat such marked submissions as confidential under the FOIA and not include them in the public docket. DOT also requests that submitters of Confidential Information include a non-confidential version (either redacted or summarized) of those confidential submissions in the public docket. If the submitter cannot provide a non-confidential version of its submission, DOT requests that the submitter post a notice in the docket stating that it has provided DOT with Confidential Information. Should a submitter fail to docket either a nonconfidential version of its submission or to post a notice that Confidential Information has been provided, we will note the receipt of the submission on the docket, with the submitter's organization or name (to the degree permitted by law) and the date of submission.

Will the Agency consider late comments?

DOT will consider all comments received before the close of business on the comment closing date indicated above under DATES. To the extent practicable, the Agency will also consider comments received after that date.

How can I read the comments submitted by other people?

You may read the comments received by contacting the Dockets office at the address provided in the ADDRESSES section. The hours of the Docket office are indicated in the ADDRESSES section. You may also see the comments on the internet, identified by the docket number at the heading of this notice, at http://www.regulations.gov.

Please note, this RFI is a planning document and will serve as such. The RFI should not be construed as policy, a solicitation for applications, or an obligation on the part of the government.

Signed in Washington, DC, on February 14, 2023.
Christopher Coes,
Assistant Secretary for Transportation Policy, Department of Transportation.

[FR Doc. 2023-03396 Filed 2-17-23; 8:45 am]

BILLING CODE 4910-9X-P